DEPARTMENT OF HOMELAND SECURITY

Transportation Security Administration

Extension Agency Information Collection Activity Under OMB Review: Application for Participation in Biometric Device Performance Qualification Testing Program

AGENCY: Transportation Security Administration (TSA), DHS.

ACTION: Notice.

SUMMARY: This notice announces that TSA has forwarded the Information Collection Request (ICR) abstracted below to the Office of Management and Budget (OMB) for review and approval of an extension of the currently approved collection under the Paperwork Reduction Act. The ICR describes the nature of the information collection and its expected burden. TSA published a Federal Register notice, with a 60-day comment period soliciting comments, of the following collection of information on October 14, 2005, 70 FR 60097.

DATES: Send your comments by January 19, 2006. A comment to OMB is most effective if OMB receives it within 30 days of publication.

ADDRESSES: Comments may be faxed to the Office of Information and Regulatory Affairs, Office of Management and Budget, Attention: DHS-TSA Desk Officer, at (202) 395-5806.

FOR FURTHER INFORMATION CONTACT: Katrina Wawer, Information Collection Specialist, Office of Transportation Security Policy, TSA-9, Transportation Security Administration, 601 South 12th Street, Arlington, VA 22202-4220.

SUPPLEMENTARY INFORMATION:

Comments Invited

In accordance with the Paperwork Reduction Act of 1995, (44 U.S.C. 3501 et seq.), an agency may not conduct or sponsor, and a person is not required to respond to a collection of information, unless it displays a valid OMB control number. Therefore, in preparation for OMB review and approval of the following information collection, TSA is soliciting comments to:

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

Title: Application for Participation in Biometric Device Performance Qualification Testing Program.

Type of Request: Extension of a currently approved collection.

OMB Control Number: 1652-0031.

Forms(s): Biometric Product Qualification Application Form.

Affected Public: Biometric Device Manufacturers.

Abstract: Section 4011—Provision for the Use of Biometric or Other Technology, of Title IV—Transportation Security, in the Intelligence Reform and Terrorism Prevention Act of 2004 (Pub. L. 108-458, 118 Stat. 3638, 3712, Dec. 17, 2004), directs TSA to issue guidance for use of biometric technology in airport access control systems including a list of qualified biometric device products and vendors by March 31, 2005. In compliance, TSA has developed a process that examines the fitness of the technology for application to airport access control systems. TSA will ask biometric device manufacturers, who wish to have their devices considered for use in airport access control systems, to submit an application containing detailed information describing their devices.

TSA intends to make the forms, which provide the basis for the device manufacturer's application to this process, widely available to the interested manufacturers through “Current Announcements” in the “Business Opportunities” link within the TSA website: http://www.tsa.gov/public. The online application will be made via that website. TSA will use the information to evaluate the products' readiness for performance testing.

Number of Respondents: 100.

Estimated Annual Burden Hours: An estimated 800 hours annually.

Issued in Arlington, Virginia, on December 14, 2005.
Lisa S. Dean,
Privacy Officer.

[FR Doc. E5-7557 Filed 12-19-05; 8:45 am]

BILLING CODE 4910-62-P